NATIONAL SCIENCE FOUNDATION

Notice of Intent To Seek Approval To Establish an Information Collection

AGENCY: National Science Foundation.

ACTION: Notice and Request for Comments.

SUMMARY: In compliance with the requirement of Section 3506(c)(2)(A) of the Paperwork Reduction Act of 1995 for opportunity for public comment on proposed data collection projects, the National Science Foundation (NSF) will publish periodic summaries of proposed projects.

DATES: Written comments on this notice must be received by July 25, 2011 to be assured of consideration. Comments received after that date will be considered to the extent practicable.

For Additional Information or Comments: Suzanne Plimpton on (703) 292-7556 or send e-mail to splimpto@nsf.gov. Individuals who use a telecommunications device for the deaf (TDD) may call the Federal Information Relay Service (FIRS) at 1-800-877-8339, which is accessible 24 hours a day, 7 days a week, 365 days a year (including Federal holidays). You also may obtain a copy of the data collection instrument and instructions from Suzanne Plimpton.

SUPPLEMENTARY INFORMATION:

Title of Collection: National Evaluation of the Alliances for Graduate Education and the Professoriate interview and focus group protocols.

OMB Approval Number: 3145-NEW.

Expiration Date of Approval: Not applicable.

Type of Request: Intent to seek approval to establish an information collection for one year.

Proposed Project: The Division of Human Resource Development of the Education and Human Resources Directorate (EHR/HRD) of the National Science Foundation has requested information on the Alliances for Graduate Education and the Professoriate (AGEP) Program. Funded by NSF, the AGEP Program has funded 5 alliances of postsecondary institutions to promote the participation of underrepresented minority students in PhD programs in the fields of social, behavioral and economic sciences (SBE). The ultimate goal of the program is to increase the number of underrepresented minorities in these fields who enter the professoriate. NSF seeks information from participants—that is, students and faculty—to determine what influence the program has had on minority graduate students' decisions to enroll in and graduate from SBE doctoral programs and enter the professoriate. NSF proposes one-time site visits to all universities within two of the five AGEP SBE alliances (a total of 11 institutions) to conduct interviews and/or focus groups with AGEP SBE program staff, as well as faculty members and graduate students who participate in AGEP-funded activities.

Estimate of Burden: The Foundation estimates that, on average, 90 minutes will be required to conduct each program staff interview (2 per institution) and 60 minutes will be required for each faculty or student focus group (6 participants per group per institution). The Foundation estimates a total of up to 33 hours to complete all program staff interviews and 132 hours to complete all faculty and student focus groups bringing the total burden hours to 165 for all respondents. A subset of respondents from the 11 institutions that received NSF AGEP support will be asked to participate.

Respondents: AGEP SBE program staff at 11 AGEP SBE institutions; SBE faculty at 11 AGEP SBE institutions and SBE graduate students at 11 AGEP institutions.

Estimated Total number of Respondents: 154.

Estimated Total Annual Burden on Respondents: 165 hours.

Dated: May 18, 2011.
Suzanne H. Plimpton,
Reports Clearance Officer, National Science Foundation.

[FR Doc. 2011-12663 Filed 5-23-11; 8:45 am]

BILLING CODE 7555-01-P